INTERNATIONAL TRADE COMMISSION

Sunshine Act Meeting

AGENCY HOLDING THE MEETING: International Trade Commission.

TIME AND DATE: June 12, 2000 at 2 p.m.

PLACE: Room 101, 500 E Street SW. Washington, DC 20436 Telephone: (202) 205-2000.

STATUS: Open to the public.

MATTERS TO BE CONSIDERED:

1. Agenda for future meeting: none

2. Minutes

3. Ratification List

4. Inv. No. 731-TA-762 (Remand)(Static Random Access Memory Semiconductors from Taiwan)— briefing and vote. (The Commission will transmit its views on remand to the U.S. Court of International Trade on June 26, 2000.)

5. Inv. Nos. 701-TA-253 and 731-TA-132, 252, 271, 276-277, 296, 409-410, 532-534, and 536-537 (Review) (Certain Pipe and Tube from Argentina, Brazil, Canada, India, Korea, Mexico, Singapore, Taiwan, Thailand, Turkey, and Venezuela)—briefing and vote. (The Commission will transmit its determination to the Secretary of Commerce on June 26, 2000).

6. Outstanding action jackets: none

In accordance with Commission policy, subject matter listed above, not disposed of at the scheduled meeting, may be carried over to the agenda of the following meeting.

Issued: June 5, 2000.
By order of the Commission.
Donna R. Koehnke,
Secretary.

[FR Doc. 00-14580 Filed 6-6-00; 11:09 am]

BILLING CODE 7020-02-U